DEPARTMENT OF HEALTH AND HUMAN SERVICES

Health Resources and Services Administration

Meeting of the National Advisory Council on Nurse Education and Practice

AGENCY: Health Resources and Services Administration (HRSA), Department of Health and Human Services (HHS).

ACTION: Notice.

SUMMARY: In accordance with the Federal Advisory Committee Act, this notice announces that the National Advisory Council on Nurse Education and Practice (NACNEP) will hold public meetings for the 2021 calendar year (CY). Information about NACNEP, agendas, and materials for these meetings can be found on the NACNEP website at https://www.hrsa.gov/advisory-committees/nursing/index.html.

DATES: NACNEP meetings will be held on

• March 9, 2021, 8:30 a.m.-5:00 p.m. Eastern Time (ET) and March 10, 2021, 8:30 a.m.-2:00 p.m. ET;

• July 13, 2021, 8:30 a.m.-5:00 p.m. ET and July 14, 2021, 8:30 a.m.-5:00 p.m. ET;

• December 7, 2021, 8:30 a.m.-5:00 p.m. ET and December 8, 2021, 8:30 a.m.-5:00 p.m. ET.

ADDRESSES: Meetings may be held in-person, by teleconference, and/or Adobe Connect webinar. For updates on how the meeting will be held, visit the NACNEP website 30 business days before the date of the meeting, where instructions for joining meetings either in-person or remotely will also be posted. In-person NACNEP meetings will be held at 5600 Fishers Lane, Rockville, Maryland 20857. For meeting information updates, go to the NACNEP website meeting page at https://www.hrsa.gov/advisory-committees/nursing/meetings.html.

FOR FURTHER INFORMATION CONTACT: Camillus Ezeike, Ph.D., JD, LLM, RN, PMP, Designated Federal Official, Division of Nursing and Public Health, Bureau of Health Workforce, HRSA, 5600 Fishers Lane, Rockville, 11N-120, Maryland 20857; 301-443-2866; or BHWNACNEP@hrsa.gov.

SUPPLEMENTARY INFORMATION: The NACNEP provides advice and recommendations to the Secretary of HHS (Secretary) on policy, program development, and other matters of significance concerning the activities carried out under Title VIII of the Public Health Service (PHS) Act, including the range of issues relating to the nurse workforce, education, and practice improvement. NACNEP also prepares and submits an annual report to the Secretary of HHS and Congress describing its activities, including NACNEP's findings and recommendations concerning activities under Title VIII, as required by the PHS Act. Since priorities dictate meeting times, be advised that start times, end times, and agenda items are subject to change. For CY 2021 meetings, agenda items may include, but are not limited to, a review of federal nursing workforce programs, funding for nursing practice improvement and nursing education, and the response to the COVID-19 pandemic. Refer to the NACNEP website listed above for all current and updated information concerning the CY 2021 NACNEP meetings, including agendas and meeting materials that will be posted 30 calendar days before the meeting.

Members of the public will have the opportunity to provide comments. Public participants may submit written statements in advance of the scheduled meeting(s). Oral comments will be honored in the order they are requested and may be limited as time allows. Requests to submit a written statement or make oral comments to the NACNEP should be sent to Camillus Ezeike using the contact information above at least 5 business days before the meeting date(s).

Individuals who need special assistance or another reasonable accommodation should notify Camillus Ezeike using the contact information listed above at least 10 business days before the meeting(s) they wish to attend.

If a meeting is held in-person, it will occur in a federal government building and attendees must go through a security check to enter. Non-U.S. Citizen attendees must notify HRSA of their planned attendance at an in-person meeting at least 20 business days prior to the meeting in order to facilitate their entry into the building. All attendees are required to present government-issued identification prior to entry.

Maria G. Button,
Director, Executive Secretariat.

[FR Doc. 2020-28920 Filed 12-30-20; 8:45 am]

BILLING CODE 4165-15-P